DEPARTMENT OF ENERGY

Federal Energy Regulatory Commission

Combined Notice of Filings # 1

April 15, 2008.

Take notice that the Commission received the following electric corporate filings:

Docket Numbers: EC08-69-000.

Applicants: Public Service Company of New Mexico.

Description: Public Service Company of New Mexico's Application for Approval to acquire from its affiliate PNMR Development and Management Company all interests in a trust that holds certain ownership interests etc.

Filed Date: 04/10/2008.

Accession Number: 20080414-0157.

Comment Date: 5 p.m. Eastern Time on Thursday, May 1, 2008.

Docket Numbers: EC08-70-000.

Applicants: KeySpan-Ravenswood, LLC.

Description: KeySpan Ravenswood, LLC submits an Application for Authorization Under Section 203 of the Federal Power Act and Request for Waivers and Expedited Action.

Filed Date: 04/10/2008.

Accession Number: 20080414-0159.

Comment Date: 5 p.m. Eastern Time on Thursday, May 1, 2008.

Docket Numbers: EC08-71-000.

Applicants: PNM Resources, Inc., PNM Merger Sub LLC, Public Service Company of New Mexico, NewCorp Resources Electric Cooperative.

Description: Joint application for approval of the disposition of jurisdictional facilities under Section 203 of the Federal Power Act re PNM Resources Inc et al.

Filed Date: 04/11/2008.

Accession Number: 20080414-0156.

Comment Date: 5 p.m. Eastern Time on Friday, May 2, 2008.

Docket Numbers: EC08-72-000.

Applicants: Industry Funds Management (Nominees) Lim, Industry Funds Management Pty Ltd, Duquesne Light Company, Duquesne Power, LLC, Duquesne Keystone, LLC, Duquesne Conemaugh, LLC.

Description: Industry Funds Management (Nominees) Limited submits an application for authorization for the dispoosition of jurisdictional facilities.

Filed Date: 04/11/2008.

Accession Number: 20080415-0166.

Comment Date: 5 p.m. Eastern Time on Friday, May 2, 2008.

Take notice that the Commission received the following exempt wholesale generator filings:

Docket Numbers: EG08-58-000.

Applicants: West Valley Leasing Company LLC.

Description: Notice of Self-Certification of Exempt Wholesale Generator Status of West Valley Leasing Company LLC.

Filed Date: 04/14/2008.

Accession Number: 20080414-5105.

Comment Date: 5 p.m. Eastern Time on Monday, May 5, 2008.

Docket Numbers: EG08-59-000.

Applicants: Winnebago Windpower LLC.

Description: Notice of Self-Certification of Exempt Wholesale Generator Status of Winnebago Windpower LLC.

Filed Date: 04/15/2008.

Accession Number: 20080415-5033.

Comment Date: 5 p.m. Eastern Time on Tuesday, May 6, 2008.

Take notice that the Commission received the following electric rate filings:

Docket Numbers: ER03-552-011; ER03-984-009.

Applicants: New York Independent System Operator, Inc.

Description: New York Independent System Operator, Inc. submits its Status Report complying with the February 22, order.

Filed Date: 04/15/2008.

Accession Number: 20080415-5057.

Comment Date: 5 p.m. Eastern Time on Tuesday, May 6, 2008.

Docket Numbers: ER03-719-009; ER03-720-009; ER03-721-009; ER98-830-018.

Applicants: New Athens Generating Company, LLC, New Covert Generating Company, LLC, New Harquahala Generating Company, LLC, Millennium Power Partners, L.P.

Description: New Athens Generating Co, LLC et al. submits notice of non-material change in status concerning a change in upstream ownership etc.

Filed Date: 04/09/2008.

Accession Number: 20080411-0050.

Comment Date: 5 p.m. Eastern Time on Wednesday, April 30, 2008.

Docket Numbers: ER08-301-001.

Applicants: Covanta Fairfax, Inc.

Description: Covanta Fairfax, Inc., submits First Amended and Restatement of Power Purchase and Operating Agreement.

Filed Date: 04/14/2008.

Accession Number: 20080415-0196.

Comment Date: 5 p.m. Eastern Time on Monday, May 5, 2008.

Docket Numbers: ER08-526-001.

Applicants: El Paso Electric Company.

Description: El Paso Electric Co., submits Second Revised Sheet 136 et al. to FERC Electric Tariff, Fourth Revised Volume 1.

Filed Date: 04/10/2008.

Accession Number: 20080414-0009.

Comment Date: 5 p.m. Eastern Time on Thursday, May 1, 2008.

Docket Numbers: ER08-675-001.

Applicants: Orange and Rockland Utilities, Inc.

Description: Orange and Rockland Utilities, Inc submits Attachment A as additional cost support for the 3/17/08 filing of an amendment to FERC Electric Tariff, Original Volume 3.

Filed Date: 04/10/2008.

Accession Number: 20080411-0044.

Comment Date: 5 p.m. Eastern Time on Thursday, May 1, 2008.

Docket Numbers: ER08-814-000.

Applicants: Southern California Edison Company.

Description: Southern California Edison submits the Large Generator Interconnection Agreement and Service Agreement for Wholesale Distribution Service with Daggett Ridge Wind Farm, LLC.

Filed Date: 04/10/2008.

Accession Number: 20080411-0047.

Comment Date: 5 p.m. Eastern Time on Thursday, May 1, 2008.

Docket Numbers: ER08-815-000.

Applicants: Portland General Electric Company.

Description: Portland General Electric Company submits amendments to certain non-rate terms and conditions of its Open Access Transmission Tariff, PGE request that the Commission waive its prior notice requirements and accept such revisions etc.

Filed Date: 04/10/2008.

Accession Number: 20080411-0048.

Comment Date: 5 p.m. Eastern Time on Thursday, May 1, 2008.

Docket Numbers: ER08-816-000.

Applicants: Virginia Electric and Power Company.

Description: Virginia Electric and Power Co., submits its Fourth Revised Rate Schedule 132.

Filed Date: 04/10/2008.

Accession Number: 20080414-0011.

Comment Date: 5 p.m. Eastern Time on Thursday, May 1, 2008.

Docket Numbers: ER08-818-000.

Applicants: New York Independent System Operator, Inc.

Description: New York Independent System Operator, Inc., submits proposed revisions to its Market Administration and Control Area Services Tariff etc.

Filed Date: 04/11/2008.

Accession Number: 20080414-0196.

Comment Date: 5 p.m. Eastern Time on Friday, May 2, 2008.

Docket Numbers: ER08-819-000.

Applicants: California Independent System Operator Corporation.

Description: California Independent System Operator Corp submits proposed amendment to Section 40.5.2.2.1 re resource adequacy import allocation provisions.

Filed Date: 04/11/2008.

Accession Number: 20080414-0195.

Comment Date: 5 p.m. Eastern Time on Friday, May 2, 2008.

Docket Numbers: ER08-820-000.

Applicants: PJM Interconnection, L.L.C.

Description: PJM Interconnection submits revisions to PJM's Open Access Transmission, Amended and Restated Operating Agreement, and Consolidated Transmission Owners Agreement, Rate Schedule 42 etc.

Filed Date: 04/11/2008.

Accession Number: 20080414-0194.

Comment Date: 5 p.m. Eastern Time on Friday, May 2, 2008.

Docket Numbers: ER08-821-000; ER97-4587-008.

Applicants: Hazleton Generation LLC; Williams Generation Company—Hazleton.

Description: Williams Generation Co-Hazelton submits a notice of change in status and notice of succession.

Filed Date: 04/11/2008.

Accession Number: 20080415-0193.

Comment Date: 5 p.m. Eastern Time on Friday, May 2, 2008.

Docket Numbers: ER08-824-000.

Applicants: PJM Interconnection, L.L.C.

Description: PJM Interconnection LLC submits the PJM Open Access Transmission Tariff and PJM Operating Agreement.

Filed Date: 04/14/2008.

Accession Number: 20080415-0197.

Comment Date: 5 p.m. Eastern Time on Monday, May 5, 2008.

Take notice that the Commission received the following electric securities filings:

Docket Numbers: ES08-36-001.

Applicants: California Independent System Operator Corporation.

Description: California Independent System Operator Corporation submits an amendment to the application of the California Independent System Operator Corporation.

Filed Date: 04/10/2008.

Accession Number: 20080414-0158.

Comment Date: 5 p.m. Eastern Time on Friday, April 25, 2008.

Docket Numbers: ES08-43-000.

Applicants: NSTAR Electric Company.

Description: NSTAR Electric Co submits application for authorization to issue short-term debt securities pursuant to Section 204 of the Federal Power Act.

Filed Date: 04/11/2008.

Accession Number: 20080415-0154.

Comment Date: 5 p.m. Eastern Time on Friday, May 2, 2008.

Take notice that the Commission received the following open access transmission tariff filings:

Docket Numbers: OA07-101-001.

Applicants: El Paso Electric Company.

Description: El Paso Electric's Compliance Filing Pursuant to March 11, 2008 Order.

Filed Date: 04/10/2008.

Accession Number: 20080410-5062.

Comment Date: 5 p.m. Eastern Time on Thursday, May 1, 2008.

Docket Numbers: OA07-40-002.

Applicants: Portland General Electric Company.

Description: Portland General Electric Company's revised tariff sheets to their Open Access Transmission Tariff pursuant to Order No. 890.

Filed Date: 04/10/2008.

Accession Number: 20080411-5007.

Comment Date: 5 p.m. Eastern Time on Thursday, May 01, 2008.

Docket Numbers: OA08-13-001.

Applicants: New York Independent System Operator, Inc.

Description: New York Independent System Operator Inc submits proposed amendments to its Open Access Transmission Tariff in compliance with Order 890 requirements governing the clustering of transmission studies.

Filed Date: 04/11/2008.

Accession Number: 20080415-0155.

Comment Date: 5 p.m. Eastern Time on Monday, April 21, 2008.

Docket Numbers: OA08-101-000.

Applicants: PJM Interconnection, L.L.C.

Description: Order No. 890 OATT Filing of PJM Interconnection, L.L.C.

Filed Date: 04/15/2008.

Accession Number: 20080415-5095.

Comment Date: 5 p.m. Eastern Time on Tuesday, May 06, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-8747 Filed 4-22-08; 8:45 am]

BILLING CODE 6717-01-P